DEPARTMENT OF HEALTH AND HUMAN SERVICES

Centers for Disease Control and Prevention

Board of Scientific Counselors, Office of Public Health Preparedness and Response, Board of Scientific Counselors (BSC OPHPR)

In accordance with section 10(a)(2) of the Federal Advisory Committee Act (Pub. L. 92-463), the Centers for Disease Control and Prevention (CDC), announces the following meeting of the aforementioned committee:

Time and Date: 1:00 p.m.-3:00 p.m., August 5, 2013.

Place: Web Conference, Audio Bridge Number (USA Toll Free): 866-660-7262, Passcode: 7173682, Web Link: https://www.livemeeting.com/cc/cdc/join, Meeting ID: S2M23S.

Status: Open to the public limited only by the conference lines available. Public participants should pre-register for the meeting as described below in “Additional Information for Public Participants”.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters To Be Discussed: Agenda items for this meeting include: (1) A presentation on assessing the cost of preparedness; (2) an update on measuring operational readiness.

Agenda items are subject to change as priorities dictate.

Additional Information For Public Participants: Members of the public that wish to participate in this meeting should pre-register by submitting the following information by email, facsimile, or phone (see Contact Person For More Information) no later than 12:00 noon (EDT) on Friday, July 26, 2013:

• Full Name

• Organizational Affiliation

• Phone Number or Email Address

Contact Person for More Information: Marquita Black, Office of Science and Public Health Practice Executive Assistant, Centers for Disease Control and Prevention, 1600 Clifton Road NE., Mailstop D-44, Atlanta, Georgia 30333, Telephone: (404) 639-7325; Facsimile: (404) 639-7977; Email: OPHPR.BSC.Questions@cdc.gov.

The Director, Management Analysis and Services Office, has been delegated the authority to sign Federal Register notices pertaining to announcements of meetings and other committee management activities for both the Centers for Disease Control and Prevention, and Agency for Toxic Substances and Disease Registry.

Elaine L. Baker,
Director, Management Analysis and Services Office, Centers for Disease Control and Prevention.

[FR Doc. 2013-16183 Filed 7-5-13; 8:45 am]

BILLING CODE 4163-18-P